FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 011539-022.

Agreement Name: HLAG/ONE/MSC Vessel Sharing Agreement.

Parties: Hapag-Lloyd AG; MSC Mediterranean Shipping Company SA; Ocean Network Express Pte. Ltd.

Filing Party: Wayne Rohde; Cozen O'Connor.

Synopsis: The Amendment increases the number of vessels to be deployed and revises the amount of space to be chartered. It also changes the name of the agreement, deletes former Article 17 as obsolete, and corrects the address of one of the parties. As a result of the change in the name of the Agreement, the amendment also restates the Agreement.

Proposed Effective Date: 9/15/2023.

Location: https://www2.fmc.gov/FMC.Agreements.Web/Public/AgreementHistory/856.

Agreement No.: 012439-007.

Agreement Name: THE Alliance Agreement.

Parties: Hapag-Lloyd AG and Hapag-Lloyd USA LLC; HMM Company Limited; Ocean Network Express Pte. Ltd.; Yang Ming Joint Service Agreement.

Filing Party: Joshua Stein; Cozen O'Connor.

Synopsis: The Amendment revises the parties to the agreement to reflect Yang Ming Joint Service Agreement, FMC Agreement No. 201392 in place of the Yang Ming entities.

Proposed Effective Date: 7/28/2023.

Location: https://www2.fmc.gov/FMC.Agreements.Web/Public/AgreementHistory/1912.

Agreement No.: 012447-002.

Agreement Name: THE Alliance/Zim MED-USEC Slot Exchange Agreement.

Parties: Hapag-Lloyd AG; Ocean Network Express Pte. Ltd.; Yang Ming Joint Service Agreement; ZIM Integrated Shipping Services Limited.

Filing Party: Joshua Stein; Cozen O'Connor.

Synopsis: The Amendment revises the parties to the agreement to reflect Yang Ming Joint Service Agreement, FMC Agreement No. 201392 in place of the Yang Ming entities and deletes Article 15 relating to the transition from Kawasaki Kisen Kaisha, Ltd., Mitsui O.S.K. Lines, Ltd. and Nippon Yusen Kaisha into a single party, Ocean Network Express Pte. Ltd. which has been completed.

Proposed Effective Date: 7/28/2023.

Location: https://www2.fmc.gov/FMC.Agreements.Web/Public/AgreementHistory/1926.

Agreement No.: 012462-002.

Agreement Name: THE Alliance/CMA CGM Space Charter Agreement.

Parties: CMA CGM S.A.; Hapag-Lloyd AG and Hapag-Lloyd USA LLC; Ocean Network Express Pte. Ltd.; Yang Ming Joint Service Agreement.

Filing Party: Joshua Stein; Cozen O'Connor.

Synopsis: The Amendment revises the parties to the agreement to reflect Yang Ming Joint Service Agreement, FMC Agreement No. 201392 in place of the Yang Ming entities and deletes Article 16 relating to the transition from Kawasaki Kisen Kaisha, Ltd., Mitsui O.S.K. Lines, Ltd. and Nippon Yusen Kaisha into a single party, Ocean Network Express Pte. Ltd. which has been completed.

Proposed Effective Date: 7/28/2023.

Location: https://www2.fmc.gov/FMC.Agreements.Web/Public/AgreementHistory/1950.

Agreement No.: 201271-002.

Agreement Name: MED/USEC Vessel Sharing Agreement.

Parties: CMA CGM S.A., APL Co. Pte. Ltd., and American President Lines (operating as a single party “CMA CGM”); COSCO SHIPPING Lines Co., Ltd.; Hapag-Lloyd AG; Ocean Network Express Pte. Ltd.; Orient Overseas Container Line Limited; Yang Ming Joint Service Agreement.

Filing Party: Joshua Stein; Cozen O'Connor.

Synopsis: The Amendment deletes OOCL (Europe) Limited as a party to the agreement.

Proposed Effective Date: 7/28/2023.

Location: https://www2.fmc.gov/FMC.Agreements.Web/Public/AgreementHistory/16275.

Agreement No.: 201271-003.

Agreement Name: MED/USEC Vessel Sharing Agreement.

Parties: CMA CGM S.A., APL Co. Pte. Ltd., and American President Lines (operating as a single party “CMA CGM”); COSCO SHIPPING Lines Co., Ltd.; Hapag-Lloyd AG; Ocean Network Express Pte. Ltd.; Orient Overseas Container Line Limited; Yang Ming Joint Service Agreement.

Filing Party: Joshua Stein; Cozen O'Connor.

Synopsis: The Amendment revises the parties to the agreement to reflect Yang Ming Joint Service Agreement, FMC Agreement No. 201392 in place of the Yang Ming entities.

Proposed Effective Date: 7/28/2023.

Location: https://www2.fmc.gov/FMC.Agreements.Web/Public/AgreementHistory/16275.

Agreement No.: 201353-002.

Agreement Name: THE Alliance/Evergreen Vessel Sharing Agreement.

Parties: Evergreen Marine Corporation (Taiwan) Ltd.; Hapag-Lloyd AG; HMM Company Limited; Ocean Network Express Pte. Ltd.; Yang Ming Joint Service Agreement.

Filing Party: Joshua Stein; Cozen O'Connor.

Synopsis: The Amendment revises the parties to the agreement to reflect Yang Ming Joint Service Agreement, FMC Agreement No. 201392 in place of the Yang Ming entities.

Proposed Effective Date: 7/28/2023.

Location: https://www2.fmc.gov/FMC.Agreements.Web/Public/AgreementHistory/39502.

Dated: August 4, 2023.
William Cody,
Secretary.

[FR Doc. 2023-17050 Filed 8-8-23; 8:45 am]

BILLING CODE 6730-02-P